DEPARTMENT OF LABOR

Office of the Secretary

Job Corps: Preliminary Finding of No Significant Impact (FONSI) for Small Wind Turbine Installation at the Hawaii-Maui Job Corps Center Located at 500 Ike Drive Makawao, Island of Maui, HI 96768

AGENCY: Office of the Secretary, Department of Labor.

Recovery: This project will be wholly funded under the American Recovery and Reconstruction Act of 2009.

ACTION: Preliminary Finding of No Significant Impact (FONSI) for Small Wind Turbine Installation to be located at the Hawaii-Maui Job Corp Center, 500 Ike Drive Makawao, Island of Maui, Hawaii 96768.

SUMMARY: Pursuant to the Council on Environmental Quality Regulations (40 CFR part 1500-08) implementing procedural provisions of the National Environmental Policy Act (NEPA), the Department of Labor, Office of the Secretary (OSEC) in accordance with 29 CFR 11.11(d), gives notice that an Environmental Assessment (EA) has been prepared for a proposed Wind Turbine Installation to be located at the Hawaii-Maui Job Corp Center, 500 Ike Drive Makawao, Island of Maui, Hawaii 96768, and that the proposed plan for the construction of a wind turbine at the Hawaii/Maui Job Corps Center will have no significant environmental impact. This Preliminary Finding of No Significant Impact (FONSI) will be made available for public review and comment for a period of 30 days.

DATES: Comments must be submitted by October 1, 2009.

ADDRESSES: Any comment(s) are to be submitted to William A. Dakshaw, P.E., Division of Facilities and Asset Management, Department of Labor, 200 Constitution Avenue, NW., Room N-4460, Washington, DC 20210, (202) 693-2867 (this is not a toll-free number).

FOR FURTHER INFORMATION CONTACT: Copies of the EA are available to interested parties by contacting William A. Dakshaw, P.E., Division of Facilities and Asset Management, Department of Labor, 200 Constitution Avenue, NW., Room N-4460, Washington, DC 20210, (202) 693-2867 (this is not a toll-free number).

SUPPLEMENTARY INFORMATION: The proposed project includes a renewable energy project that will consist of the construction of a 1-100 kW wind turbine or 2-50 kW wind turbines. The proposed project will enable the Job Corps to generate their own clean power at the facility. The wind turbines will be installed on self supporting towers approximately 120 feet above the ground. The wind turbines will produce clean energy for the Hawaii-Maui Job Corps Center, demonstrate renewable energy capabilities to Job Corps Students and help the program meet Federal requirements in Executive Order 13423 for renewable energy production. This project is not expected to have a negative impact on population demographics, the surrounding area, environmental quality, or natural systems and heritage. Based on the information gathered during the preparation of the EA, the construction of a wind turbine at the Hawaii-Maui Job Corp Center, 500 Ike Drive Makawao, Island of Maui, Hawaii 96768 will not create any significant adverse impacts on the environment.

Dated: August 25, 2009.
Lynn Intrepidi,
Interim National Director of Job Corps.

[FR Doc. E9-20971 Filed 8-31-09; 8:45 am]

BILLING CODE 4510-23-P